DEPARTMENT OF TRANSPORTATION

Federal Aviation Administration

14 CFR Part 71

[Docket No. FAA-2008-0111; Airspace Docket No. 08-AAL-2]

Proposed Establishment of Class E Airspace; White Hills, AK

AGENCY: Federal Aviation Administration (FAA), DOT.

ACTION: Proposed rule: withdrawal.

SUMMARY: This action withdraws the notice of proposed rulemaking (NPRM) published in the Federal Register on February 19, 2008. The FAA proposed to establish Class E airspace at the White Hills Airstrip, AK, to support the installation of instrument approach procedures. The FAA has since been advised by the proponent that the airstrip will not be used for instrument approaches in the near term. Therefore, the FAA has determined that withdrawal of the proposed rule is warranted.

DATES: Effective Date: May 29, 2008.

FOR FURTHER INFORMATION CONTACT: Gary Rolf, Federal Aviation Administration, 222 West 7th Avenue, Box 14, Anchorage, AK 99513-7587; telephone number (907) 271-5898; fax: (907) 271-2850; e-mail: gary.ctr.rolf@faa.gov. Internet address: http://www.alaska.faa.gov/at.

SUPPLEMENTARY INFORMATION: On February 19, 2008, an NPRM was published in the Federal Register (73 FR 9059) proposing to amend 14 CFR part 71 to establish Class E airspace around the White Hills airstrip in the location known as White Hills, AK. Subsequent to the NPRM publication, the proponent informed the FAA that their plans to implement instrument approaches at the airstrip had been cancelled. As a result the Class E airspace will not be required.

List of Subjects in 14 CFR Part 71

Airspace, Incorporation by reference, Navigation (air).

The Withdrawal

In consideration of the foregoing, the Notice of Proposed Rulemaking, Airspace Docket No. 08-AAL-2, as published in the Federal Register on February 19, 2008 (73 FR 9059), is hereby withdrawn.

Authority: 49 U.S.C. 106(g), 40103, 40113, 40120; E.O. 10854, 24 FR 9565, 3 CFR, 1959-1963 Comp., p. 389.

Issued in Anchorage, AK, on May 16, 2008.
Anthony M. Wylie,
Manager, Alaska Flight Services Information Area Group.

[FR Doc. E8-11970 Filed 5-28-08; 8:45 am]

BILLING CODE 4910-13-P